DEPARTMENT OF HEALTH AND HUMAN SERVICES

Announcement of Requirements and Registration for “Health Data Platform Simple Sign-On Challenge”

AGENCY: Office of the National Coordinator for Health Information Technology, HHS.

ACTION: Notice.

Award Approving Official: Farzad Mostashari, National Coordinator for Health Information Technology.

SUMMARY: As part of the HHS Open Government Plan, the HealthData.gov Platform (HDP) is a flagship initiative and focal point helping to establish learning communities that collaboratively evolve and mature the utility and usability of a broad range of health and human service data. HDP will deliver greater potential for new data driven insights into complex interactions of health and health care services. To augment the HDP effort, seven complementary challenges will encourage innovation around initial platform- and domain-specific priority areas, fostering opportunities to tap the creativity of entrepreneurs and productivity of developers.

The “Health Data Platform Simple Sign-On Challenge” will improve community engagement by providing simplified sign on (SSO) for external users interacting across multiple HDP technology components, making it easier for community collaborators to contribute, leveraging new approaches to decentralized authentication.

The statutory authority for this challenge competition is Section 105 of the America COMPETES Reauthorization Act of 2010 (Pub. L. 111-358).

DATES: Effective on June 5, 2012. Challenge submission period ends October 2, 2012, 11:59 p.m. et.

FOR FURTHER INFORMATION CONTACT: Adam Wong, 202-720-2866; Wil Yu, 202-690-5920.

SUPPLEMENTARY INFORMATION:

Subject of Challenge Competition

Healthdata.gov is leveraging a variety of open source infrastructure components including the Drupal 7 content management system, the CKAN data portal, the Solr search engine, and the community edition of the Virtuoso (as a RDF database and SPARQL endpoint query service). Going forward, the HDP team intends to realize an architecture similar to the Linked Data Integration Framework (LDIF) and leverage tools in the LOD2 stack where possible, beginning with Ontowiki to be used as Virtuoso editor, most likely followed by SILK for cross domain correlation. HDP would like to enable service requestors to be authenticated using WebID from the W3C. Some of the current and upcoming HDP infrastructure components support aspects of WebID functionality already while others do not. A number of WebID libraries are available, written in various languages.

This challenge winner will present a replicable open source virtual machine environment demonstrating how HDP components (with an initial emphasis on Virtuoso,¹ Drupal 7,² CKAN,³ OntoWiki,⁴ and Solr,⁵) can provide and/or consume WebID's, contributing to simplified sign-on for humans and machines. The developer designs how their code might utilize each component as a WebID identity provider or relying party, presumably leveraging existing capabilities to the fullest extent possible. The end result will demonstrate seamless integration across a number of HDP components, without introducing any external service dependencies that couldn't be operated by HHS. The contributed code will be given an open source license and managed by HHS on github.com, with copyright and attribution to the developer(s) as appropriate.

¹ http://virtuoso.openlinksw.com/dataspace/dav/wiki/Main/.

² http://www.acquia.com/Drupal-7.

³ http://ckan.org/.

⁴ http://lod2.eu/Project/OntoWiki.html.

⁵ http://lucene.apache.org/solr/.

Eligibility Rules for Participating in the Competition

To be eligible to win a prize under this challenge, an individual or entity—

(1) Shall have registered to participate in the competition under the rules promulgated by the Office of the National Coordinator for Health Information Technology.

(2) Shall have complied with all the requirements under this section.

(3) In the case of a private entity, shall be incorporated in and maintain a primary place of business in the United States, and in the case of an individual, whether participating singly or in a group, shall be a citizen or permanent resident of the United States.

(4) May not be a Federal entity or Federal employee acting within the scope of their employment.

(5) Shall not be an HHS employee working on their applications or submissions during assigned duty hours.

(6) Shall not be an employee of Office of the National Coordinator for Health IT.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

Entrants must agree to assume any and all risks and waive claims against the Federal Government and its related entities, except in the case of willful misconduct, for any injury, death, damage, or loss of property, revenue, or profits, whether direct, indirect, or consequential, arising from my participation in this prize contest, whether the injury, death, damage, or loss arises through negligence or otherwise.

Entrants must also agree to indemnify the Federal Government against third party claims for damages arising from or related to competition activities.

Registration Process for Participants

To register for this challenge participants should either:

• Access the www.challenge.gov Web site and search for the “Health Data Platform Simple Sign-On Challenge”.

• Access the ONC Investing in Innovation (i2) Challenge Web site at:

○ http://www.health2con.com/devchallenge/challenges/onc-i2-challenges/.

○ A registration link for the challenge can be found on the landing page under the challenge description.

Amount of the Prize

• First Prize: $20,000.

• Second Prize: $10,000.

• Third Prize: $5,000.

Awards may be subject to Federal income taxes and HHS will comply with IRS withholding and reporting requirements, where applicable.

Payment of the Prize

Prize will be paid by contractor.

Basis Upon Which Winner Will Be Selected

The ONC review panel will make selections based upon the following criteria:

• Coverage: The more integrated components the better, with an emphasis on leverage existing work and capabilities of each component.

• Coupling: The level with which any integrated components can be removed without affecting the remaining component functionality.

• Performance: The lowest latency and best responsiveness of the component interactions as demonstrated by test cases.

• Elegance: How the design deals with both human and application agents that interact with different interfaces, and how each is managed across infrastructure components.

• Documentation: Articulation of design using well known architecture artifacts and executable test cases.

• Engagement: Willingness to participate in the community as a maintainer/committer after award.

Additional Information

The virtual machines and codebase outputs from innovations demonstrated by challenge participants will be made publically available through HHS Github repositories (see https://github.com/hhs/) as release candidates for further community refinement as necessary, including open source licensing and contributor attribution as appropriate.

Authority: 15 U.S.C. 3719.

Dated: May 31, 2012.
Farzad Mostashari,
National Coordinator for Health Information Technology.

[FR Doc. 2012-13830 Filed 6-6-12; 8:45 am]

BILLING CODE 4150-45-P